DEPARTMENT OF THE INTERIOR

Bureau of Land Management

[19X R4079V4 RX.12255301.3000000 AZA25613]

Notice of Proposed Withdrawal Extension and Opportunity for the Public Meeting, Lake Pleasant Expansion Area, Arizona

AGENCY: Bureau of Land Management, Interior.

ACTION: Notice.

SUMMARY: The Assistant Secretary—Land and Minerals Management proposes to extend the duration of Public Land Order (PLO) No. 7384 for an additional 20-year term. PLO No. 7384 withdrew 1,988.27 acres of public lands from surface entry and mining to protect the Bureau of Reclamation's (BOR) Lake Pleasant expansion area. This Notice advises the public of an opportunity to comment on the proposed withdrawal extension and to request a public meeting. The lands have been and will remain open to mineral leasing.

DATES: Comments and requests for a public meeting must be received by March 28, 2019.

ADDRESSES: All comments and meeting requests should be mailed to the Bureau of Land (BLM) Arizona State Office, One North Central, Suite 800, Phoenix, Arizona 85004 or faxed to 602-417-9452. The BLM will not consider comments received via telephone calls.

FOR FURTHER INFORMATION CONTACT: Sara Ferreira, Land Law Examiner, BLM, at 602-417-9598 or by email at sferreir@blm.gov, or contact the BLM Arizona State Office, One North Central, Suite 800, Phoenix, Arizona 85004. Persons who use a telecommunications device for the deaf (TDD) may call the Federal Relay Service (FRS) at 1-800-877-8339 to contact the above individual. The FRS is available 24 hours a day, 7 days a week, to leave a message or question with the above individual. You will receive a reply during normal business hours.

SUPPLEMENTARY INFORMATION: The BOR has filed an application to extend, for an additional 20-year term, a withdrawal established by PLO No. 7384 (64 FR 19386) which will expire on April 19, 2019. The legal descriptions written in PLO No. 7384 are revised to reflect the Cadastral Survey's Specifications for Descriptions of Land:

Gila and Salt River Meridian

T. 6 N., R. 1 E.,

sec. 3, a portion of lot 10;

sec. 10, S½NW¼;

sec. 15, SW¼NE¼.

T. 6 N., R. 1 W.,

sec. 1, lots 1, 2, 3, 5, 6, and 7, SW¼NE¼, E½NW¼SE¼, and E½SW¼SE¼;

sec. 12, lot 1 and E½NW¼NE¼;

sec. 13, lots 1 thru 4, W½NE¼, W½SE¼, and that portion of the W½ lying east of the east right-of-way of the Castle Hot Springs Road.

T. 7 N., R. 1 E.,

sec. 12, a portion of lot 2.

T. 7 N., R. 1 W.,

sec. 13, W½SW¼SE¼ and SW¼NW¼SE¼;

sec. 23, E½NE¼, E½NW¼NE¼, E½SW¼NE¼, NE¼SE¼, E½NW¼SE¼, and S½SE¼;

sec. 24, W½NW¼NE¼, W½SW¼NE¼, and NW¼;

sec. 25, NE¼ and W½.

The areas described aggregate 1,988.27 acres in Maricopa and Yavapai Counties.

The proposed withdrawal would continue with the purpose established by PLO No. 7384 to protect the capital investments and dispersed recreation in the BOR's Lake Pleasant Expansion area.

The use of a right-of-way, interagency agreement, or cooperative agreement would not provide adequate protection for the capital improvement investment that the BOR has made to the Lake Pleasant expansion area.

No additional water rights are needed to fulfill the purpose of the requested withdrawal extension.

There are no suitable alternative sites since the land described contain the developed Lake Pleasant expansion area.

All persons who wish to submit comments, suggestions, or objections in connection with the proposed withdrawal extension may present their views in writing to the BLM.

Comments, including name and street address of respondents, will be available for public review stated in the ADDRESSES section above during regular business hours 08:00 a.m. to 4:30 p.m., Monday through Friday, except Federal holidays.

Before including your address, phone number, email address, or other personal identifying information in your comment, you should be aware that your entire comment including your personal identifying information may be made publicly available at any time. While you can ask us in your comment to withhold your personal identifying information from public review, we cannot guarantee that we will be able to do so.

Notice is hereby given that an opportunity for a public meeting is afforded in connection with the proposed withdrawal extension. All interested persons who desire a public meeting for the purpose of being heard on the proposed withdrawal extension must submit written request to the State Director, BLM Arizona State Office at the address in the ADDRESSES section, within 90 days from the publication of this Notice. If the authorized officer determines that a public meeting will be held, a Notice of the date, time, and place will be published in the Federal Register and local newspapers and post on the BLM website at www.blm.gov at least 30 days before the scheduled date of the meeting.

The withdrawal application will be processed in accordance with the regulations set forth in 43 CFR 2310.4.

Authority: 43 CFR 2310.3-1 and 43 CFR 2310.4.

Dated: December 20, 2018.
Joseph R. Balash,
Assistant Secretary, Land and Minerals Management.

[FR Doc. 2018-28287 Filed 12-27-18; 8:45 am]

BILLING CODE 4332-90-P